DEPARTMENT OF HOMELAND SECURITY

Coast Guard

[Docket No. USCG-2022-0346]

Cooperative Research and Development Agreement—Evaluation of RADA's Air Surveillance Radar System

AGENCY: Coast Guard, DHS.

ACTION: Notice of intent; request for comments.

SUMMARY: The Coast Guard announces its intent to enter into a cooperative research and development agreement (CRADA) to evaluate track classification and discrimination technology and address its ability to perform for specific USCG needs supporting operations. The Coast Guard is currently considering partnering with RADA Technologies LLC and solicits public comment on the possible participation of other parties in the proposed CRADA, and the nature of that participation. The Coast Guard also invites other potential non-Federal participants, who have the interest and capability to bring similar contributions to this type of research, to consider submitting proposals for consideration in similar CRADAs.

DATES: Comments must reach the Coast Guard on or before November 2, 2022. Synopses of proposals regarding future CRADAs must also reach the Coast Guard on or before November 2, 2022.

ADDRESSES: Submit comments online at http://www.regulations.gov following website instructions. Submit synopses of proposals regarding future CRADAs to Mr. Robert Taylor at his address listed in the FOR FURTHER INFORMATION CONTACT section.

FOR FURTHER INFORMATION CONTACT: If you have questions on this notice or wish to submit proposals for future CRADAs, contact Mr. Robert Taylor, Project Official, C5I Branch, U.S. Coast Guard Research and Development Center, 1 Chelsea Street, New London, CT 06320, telephone 860-271-2883, email smb-rdc-c5i@uscg.mil.

SUPPLEMENTARY INFORMATION:

Public Participation and Request for Comments

We request public comments on this notice. Although we do not plan to publish responses to comments in the Federal Register, we will respond directly to commenters and may modify our proposal in light of comments.

Comments should be marked with docket number USCG-2022-xxxx and should provide a reason for each suggestion or recommendation. You should provide personal contact information so that we can contact you if we have questions regarding your comments; but please note that all comments will be posted to the online docket without change and that any personal information you include can be searchable online. For more about privacy and the docket, visit http://www.regulations.gov/privacyNotice. We do accept anonymous comments.

We encourage you to submit comments through the Federal Portal at http://www.regulations.gov. If your material cannot be submitted using http://www.regulations.gov, contact the Coast Guard (see FOR FURTHER INFORMATION CONTACT). Documents mentioned in this notice and all public comments, will be in our online docket at http://www.regulations.gov and can be viewed by following that website's instructions. Additionally, if you go to the online docket and sign up for email alerts, you will be notified when comments are posted.

Do not submit detailed proposals for future CRADAs to http://www.regulations.gov. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the Coast Guard's Research and Development Center (R&DC) will collaborate with one or more non-Federal participants. Together, the R&DC and the non-Federal participants will identify the capabilities, benefits, risks, and technical limitations of enhancing air surveillance radar systems.

We anticipate that the Coast Guard's contributions under the proposed CRADA will include the following:

(1) Provide end user input on operational needs and assessment of system performance;

(2) In conjunction with the non-Federal participant(s), assist in developing the evaluation test plan to be executed to meet the objectives of the CRADA;

(3) Provide qualified UAS operators for operation of UAS, as required under the CRADA;

(4) Provide the test range, test range support, facilities, and all approvals for operation of UAS as required under the CRADA;

(5) In conjunction with the non-Federal participant(s), assist with the development of a final report or brief that documents the methodologies, findings, conclusions, and recommendations under this CRADA.

We anticipate that the non-Federal participants' contributions under the proposed CRADA will include the following:

(1) Provide the air surveillance radar system and all other equipment required to conduct the evaluation as described in the test plan developed under this CRADA;

(2) Provide operators, as required, to operate and maintain the equipment to conduct the evaluation as described in the test plan;

(3) Provide shipment and delivery of all equipment for this evaluation;

(4) Provide personnel, travel, and other associated expenses as required;

(5) Collect and analyze evaluation test plan data; and

(6) Collaboratively develop a final report documenting the methodologies, findings, conclusions, and recommendations of this CRADA work.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, RADA Technologies LLC is being considered for participation in this CRADA because they have an air surveillance radar system solution in place for providing track classification and discrimination. However, we do not wish to exclude other viable participants from this or future similar CRADAs.

The goal of this CRADA is to evaluate track classification and discrimination technology and address its ability to perform specific operations. Special consideration will be given to small business firms/consortia, and preference will be given to business units located in the U.S.

This notice is issued under the authority of 5 U.S.C. 552(a) and 15 U.S.C. 3710(a).

Dated: September 22, 2022.
Daniel P. Keane,
Captain, Commanding Officer, U.S. Coast Guard Research and Development Center, USCG.

[FR Doc. 2022-21388 Filed 9-30-22; 8:45 am]

BILLING CODE 9110-04-P